DEPARTMENT OF STATE

Delegation of Authority 374-1: Authority to Accept Volunteer Services From Students

By virtue of the authority vested in the Secretary of State by the laws of the United States, including 22 U.S.C. 2651a and 5 U.S.C. 3111 (“Section 3111”), and delegated by Delegation of Authority 198, dated September 16, 1992, to the extent authorized by law and pursuant to subsection (b) of Section 3111, I hereby delegate the authority of the Secretary to accept voluntary services for the United States to the Director of the Office of Civil Rights (S/OCR).

This authority is limited to the acceptance of voluntary services provided by law students who are filling legal extern and intern positions.

Any official action within the scope of this delegation taken prior to the effective date of this delegation by the Director of S/OCR are hereby ratified and continued in effect, according to their terms, until modified, revoked, or superseded by authorized action.

Notwithstanding this delegation of authority, the Secretary, the Deputy Secretary, and the Under Secretary of State for Management may at any time exercise the authority herein delegated. This delegation of authority does not amend or supersede any other valid delegation of authority.

This delegation of authority will be published in the Federal Register.

Dated: October 12, 2018.
William E. Todd,
Deputy Under Secretary of State for Management.

[FR Doc. 2018-24028 Filed 11-1-18; 8:45 am]

BILLING CODE 4710-10-P